INTERNATIONAL TRADE COMMISSION

[Investigation No. 731-TA-1696 (Final)]

Large Top-Mount Combination Refrigerator-Freezers From Thailand; Termination of Investigation

AGENCY: United States International Trade Commission.

ACTION: Notice.

SUMMARY: Based on petitioner's withdrawal of the antidumping petition on large top-mount combination refrigerator-freezers from Thailand, we are terminating this antidumping duty investigation.

DATES: May 28, 2025.

FOR FURTHER INFORMATION CONTACT: Stamen Borisson (202-205-3125), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On May 30, 2024, Electrolux Consumer Products, Inc., Charlotte, North Carolina, filed a petition with the U.S. International Trade Commission (“Commission”) and the U.S. Department of Commerce (“Commerce”) alleging that an industry in the United States is materially injured or threatened with material injury by reason of less than-fair-value (“LTFV”) imports of large top mount combination refrigerator-freezers from Thailand.¹ Effective May 30, 2024, the Commission instituted antidumping duty investigation No. 731-TA-1696 (Preliminary).² On July 26, 2024, the Commission published its preliminary affirmative injury determination and commenced the final phase of its LTFV investigation.³ On January 29, 2025, Commerce published its preliminary determination of sales at LTFV, pursuant to Section 733(b) of the Tariff Act of 1930 (“Act”).⁴ On May 28, 2025, counsel for petitioner filed with the Commission and Commerce a request to withdraw its antidumping petition regarding imports of large top-mount combination refrigerator-freezers from Thailand.⁵

¹ 89 FR 60659, July 26, 2024.

² 89 FR 60659, July 26, 2024.

³ 89 FR 60659, July 26, 2024.

⁴ 90 FR 8379, January 29, 2025.

⁵ See Petitioner's Letter, “Withdrawal of Petition,” dated May 28, 2025.

Authority: Section 207.40(a) of the Commission's Rules of Practice and Procedure stipulates that the Commission may terminate an investigation upon withdrawal of the petition by the petitioner, provided that Commerce has made a determination pursuant to section 702(c), 703(b), 732(c) or 733(b) of the Act. Accordingly, we are terminating this investigation pursuant to section 207.40(a) of the Commission's rules (19 CFR 207.40(a)). This notice is published pursuant to section 201.10 of the Commission's rules (19 CFR 201.10).

By order of the Commission.
Issued: June 3, 2025.
Lisa Barton,
Secretary to the Commission.

[FR Doc. 2025-10373 Filed 6-6-25; 8:45 am]

BILLING CODE 7020-02-P